DEPARTMENT OF HEALTH AND HUMAN SERVICES

Office of the Secretary

Office of Resources and Technology; Statement of Organization, Functions, and Delegations of Authority

Part A, Office of the Secretary, Statement of Organization, Functions and Delegations of Authority for the Department of Health and Human Services (HHS) is being amended as Chapter AM, Office of Resources and Technology, as last amended 74 FR 18238-89 dated 4/21/2009. This reorganization will establish the Division of the Office of the Secretary Budget (AML5) within the Office of Budget (AML) within the Office of Resources and Technology (ORT) to review and analyze the budgets of the Staff Divisions (STAFFDIVS) funded by the General Departmental Management (GDM), Office of Inspector General (OIG) and Office for Civil Rights (OCR) appropriations. This reorganization will make the following changes under Chapter AM, Office of Resources and Technology:

Under Section AM.20 Functions, delete Section AML in its entirety and replace it with the following:

Section AML.00 Mission

The Office of Budget provides advice and support to the Secretary and the Assistant Secretary for Resources and Technology (ASRT) on matters pertaining to: formulation of the HHS and President's budgets, management of program assessment and performance reporting, presentation of budgets and reconciliation legislation to OMB and the Congress, and resolution of issues arising from the execution of final appropriations.

Section AML.10 Organization

The Office of Budget is headed by the Deputy Assistant Secretary for Budget who reports to the Assistant Secretary Resources and Technology/Chief Financial Officer and includes the following:

• Division of Discretionary Programs (AML1).

• Division of Health Benefits and Income Support (AML3).

• Division of Budget Policy, Execution and Management (AML4).

• Division of the Office of the Secretary Budget (AML5).

Section AML.20 Functions

1. Division of Discretionary Programs (AML1): The Division of Discretionary Programs:

a. Provides analytical services and assistance to the Secretary, the Assistant Secretary for Resources and Technology (ASRT), and HHS Operating Division (OPDIV) Heads in their budgetary management of the Department's principal discretionary programs, including science and health services programs administered by the Public Health Service components; and social service programs of the Administration for Children and Families and the Administration on Aging.

b. Reviews budgets and related requests for resources, and analyzes plans and proposals for new or alternative legislation.

c. Analyzes proposed regulations, reorganizations, or program initiatives to determine their policy, resource and management implications.

d. Proposes recommendations on draft regulations, proposed legislation and reorganization proposals.

e. Proposes budget options and policy initiatives as necessary to achieve program objectives established by the Secretary.

f. Assists in the development of strategies for the presentation of the budget to the Office of Management and Budget (OMB) and the Congress, and develops materials for key Departmental officials who testify at hearings before these bodies.

g. Provides guidance to OPDIVs in the formulation of their budgets.

h. Conducts special reviews and analyses to examine assigned OPDIV program operations and management effectiveness.

i. Assists in the development of performance plans, reports, and program assessments under the Government Performance and Results Act.

j. Assists in the presentation of the Department's budget to the public by developing material for use of Departmental officials, and reviews press statements and other public documents for consistency with approved budgets and plans.

2. Division of Health Benefits and Income Support (AML3). The Division:

a. Provides analytical services and assistance to the Secretary, the ASRT, and the Department OPDIV Heads in the budgetary management of the Department's principal entitlement programs including Medicare, Medicaid, Family Support Payments and other entitlements in support of children and families.

b. Reviews budget and related requests for resources; analyzes plans and proposals for new legislation, regulations, or program initiatives to determine their resource, policy, and management implications; proposes recommendations for the Deputy Assistant Secretary for Budget on budget requests, draft regulations, proposed legislation, and reorganization proposals.

c. Assists the Secretary, the ASRT and the OPDIV heads in evaluating programs and budgetary proposals by developing reliable cost projections for legislative and planning proposals, and ensuring that proposals are consistent with approved plans and policies.

d. Coordinates the preparation of budget estimates and forecasts of resources required to support the programs and operations of the Department.

e. Reviews reprogramming requests and recommends appropriate action to the Deputy Assistant Secretary for Budget.

f. Provides guidance in budget formulation for the appropriate OPDIV.

g. Conducts special management reviews and analyses, and develops management options to ensure efficient and effective program operations and to encourage management improvements.

h. Proposes budget options and policy initiatives as necessary to achieve program objectives established by the Secretary.

i. Assists in the development of strategies for presentation of the budget to the Office of Management and Budget and the Congress and develops materials for key Department officials who testify at hearings before these bodies.

j. Assists in the development of performance plans, reports, and program assessments under the Government Performance and Results Act.

k. Manages the overall allocation of Health Care Fraud and Abuse Control (HCFAC) funds.

3. Division of Budget Policy, Execution and Review (AML4). The Division of Budget Policy, Execution and Review (DBPER):

a. Directs the formulation and presentation of the HHS budget by developing and promulgating to the OPDIVs and others the policies, procedures, guidance, and schedules for preparing budget submissions.

b. Coordinates the presentation of the Department's budget and performance plan to Congress, including preparation and submission of justifications, reports, significant items, and crosscutting materials; preparation of the Secretary's testimony before the Appropriations Committees; and coordination of transcripts, questions for the record, and other hearing materials.

c. Provides advice and analysis to support Department-wide budget decision-making.

d. Maintains active communication with Department budget officers with regard to budget events and activities with OMB, GAO, Congress and other parties.

e. Manages a computerized budget information system reflecting data on a HHS-wide basis and coordinates OPDIV input into the system.

f. Provides direct staff support to the Secretary in preparation for appropriation hearings and other budget related presentations and briefings.

g. Actively communicates with the Budget and Appropriations Committees in the Congress and provides intelligence and analyses of budget decisions to senior HHS staff and the OPDIVs.

h. Coordinates preparation of guidelines governing reprogrammings, transfers between accounts, and other crosscutting funding methods; provides recommendations and staff support in managing and processing crosscutting funding proposals.

i. Analyzes and prepares reports on HHS performance in managing Full Time Equivalent (FTE) levels and in implementing FTE policy, and provides expert advice on Department-wide staffing.

j. Provides leadership and direction in the Department-wide review, analysis and appraisal of financial elements of program execution and the development and execution of policies related to efficient allocation, expenditure and control of funds.

k. Coordinates and tracks outlay projections: (1) To assist OMB in the continuing effort to monitor spending and to thereby improve the management of the Government's overall cash and debt operations; and (2) in support of formulation of the budget, including the maintenance of HHS ceiling controls and the development of outlay estimates shown in the President's Budget for controllable programs.

l. Promulgates Departmental spending policies, especially in the event of Continuing Resolutions and possible suspension of operations due to the failure of the Congress to enact appropriations on time, and works with agency budget officers and the OMB in formulating agency funding plans.

m. Maintains a system of Department-wide budget execution, including the management and control of the apportionment of funds in accordance with the requirements of the Anti-Deficiency Act and OMB regulations; and requests and monitors the receipt of Treasury warrants.

n. Serves as principal staff advisor to the ASRT on all matters involving budget execution.

o. Acts as liaison on behalf of HHS with OMB, the Treasury Department, the Congressional Budget Office, and other agencies on matters involving budget execution.

p. Responsible for the development and maintenance of a system of financial information which involves the collection, organization, and maintenance of financial data in electronic form as well as the development of reporting mechanisms for making the financial information useful and available for decision making.

q. Represents the Department in government-wide activities to implement the development and implementation of performance measures and budget-related performance planning policies, requirements and processes. Manages program performance assessment activities.

r. Provides special management review services for selected activities.

4. Division of the Office of the Secretary Budget (AML5). The Division of the Office of the Secretary Budget (DOSB):

a. Reviews and analyzes the budgets of the Staff Divisions (STAFFDIVS) funded by the General Departmental Management (GDM), Office of Inspector General (OIG) and Office for Civil Rights (OCR) appropriations. Prepares special analyses of these budgets for use in decision-making, particularly for evaluating capacity and determining if alternative approaches are feasible. Monitors Congressional appropriations hearings in which the GDM STAFFDIVS, OIG and OCR are participants.

b. Works closely with OASAM in planning and formulating the GDM budget justification for presentation to the Secretary, OMB and the Congress.

c. Reviews budgets and related requests for resources, and analyzes plans and proposals for new or alternative legislation.

d. Analyzes proposed regulations, reorganizations, or program initiatives to determine their policy, resource and management implications.

e. Proposes recommendations on draft regulations, proposed legislation and reorganization proposals.

f. Proposes budget options and policy initiatives as necessary to achieve program objectives established by the Secretary.

g. Assists in the development of strategies for the presentation of the budget to the Office of Management and Budget (OMB) and the Congress, and develops materials for key Departmental officials who testify at hearings before these bodies.

h. Provides guidance to STAFFDIVs in the formulation of their budgets.

i. Conducts special reviews and analyses to examine assigned STAFFDIV program operations and management effectiveness.

j. Provides staff assistance to the Secretary, the ASRT, the Service and Supply Funds (SSF) Board of Directors, OPDIV Budget Officers and STAFFDIV Heads in the budgetary and financial management of the SSF.

k. Provides for budget policy management and financial integrity of the SSF in the provision of Departmental common use administrative services.

l. Assists in the planning and preparation of the SSF budget for presentation to the SSF Board, the OMB, and Congress.

m. Provides budget policy and technical support to the Program Support Center Director (and other activity managers) on all SSF activities.

n. Directs and provides technical guidance to SSF activity managers in preparing annual budgets.

o. Directs and provides technical guidance to SSF accountants in preparing annual financial statements. Assists in the planning and preparation of these statements for presentation to the SSF Board, auditors, and the Office of Management and Budget.

p. Establishes Department policy in receiving and responding to Inspector General reports and audits.

q. Prepares apportionment requests for the SSF.

Dated: July 30, 2009.
E.J. Holland, Jr.,
Assistant Secretary for Administration and Management.

[FR Doc. E9-18856 Filed 8-5-09; 8:45 am]

BILLING CODE 4150-04-P